DEPARTMENT OF THE INTERIOR

Bureau of Land Management

[NV-020-1430-ES; N-43020]

Notice of Termination of Recreation and Public Purposes Act Classification, Pershing County, NV

SUMMARY: This notice terminates the segregative effect of Recreation & Public Purposes Act classification as it pertains to the following described 40 acres of public lands: Mount Diablo Meridian, T. 27 N., R. 31 E., Section 20: NE¼NE¼, Nevada. On May 21, 1987, 40 acres were classified for an application under the Recreation & Public Purposes Act for a lease/conveyance to the Lovelock Racing Association for a stock car racing track, motocross motorcycle track, and BMX bicycle track. No further action was taken.

The land is hereby open to the operation of the public land and mining laws, subject to valid existing rights. The segregative effect of the classification order is removed upon publication of this notice in the Federal Register.

FOR FURTHER INFORMATION CONTACT: Realty Specialist Barbara Kehrberg, Bureau of Land Management, Winnemucca Field Office, 5100 East Winnemucca Boulevard, Winnemucca, Nevada 89445, (775) 623-1500.

Dated: October 14, 2003.
Terry Reed,
Field Manager.

[FR Doc. 03-28962 Filed 11-19-03; 8:45 am]

BILLING CODE 4310-HC-P